DEPARTMENT OF COMMERCE

International Trade Administration

[C-570-953]

Narrow Woven Ribbons With Woven Selvedge From the People's Republic of China: Notice of Court Decision Not in Harmony With the Results of Countervailing Duty Administrative Review; Notice of Amended Final Results

AGENCY: Enforcement and Compliance, International Trade Administration, Department of Commerce.

SUMMARY: On August 5, 2024, the U.S. Court of International Trade (CIT) issued its final judgment in Yama Ribbons and Bows Co., Ltd. v. United States, Court No. 20-00059, sustaining the U.S. Department of Commerce's (Commerce) second remand results pertaining to the administrative review of the countervailing duty order on narrow woven ribbons with woven selvedge (ribbons) from the People's Republic of China (China) covering the period January 1, 2017, through December 31, 2017. Commerce is notifying the public that the CIT's final judgment is not in harmony with Commerce's final results of the administrative review, and that Commerce is amending the final results with respect to the countervailable subsidy rate assigned to Yama Ribbons and Bows Co., Ltd. (Yama).

DATES: Applicable August 15, 2024.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On February 25, 2020, Commerce published its final results in the 2017 countervailing duty administrative review of ribbons from China.¹ Commerce assigned Yama an overall subsidy rate of 31.87 percent,² including a rate based on an adverse facts available (AFA) rate of 10.54 percent for the export buyer's credit program (EBCP).

¹ See Narrow Woven Ribbons with Woven Selvedge from the People's Republic of China: Final Results of Countervailing Duty Administrative Review; 2017, 85 FR 10653 (February 25, 2020) (Final Results).

² Id., 85 FR at 10654.

Yama appealed Commerce's Final Results. On December 23, 2022, the CIT sustained, in part, and remanded, in part, the Final Results, instructing Commerce to: (1) reconsider its use of the 10.54 percent rate as AFA for the EBCP; and (2) explain why the rate it decided to use is appropriate under section 776(d) of the Tariff Act of 1930, as amended (the Act), given that an unreasonably high AFA rate could unduly prejudice Yama, which fully cooperated during the review.³

³ See Yama Ribbons and Bows Co., v. United States, 611 F. Supp. 3d 1394, 1403 (CIT 2022).

In its first final remand redetermination, issued in February 2023, Commerce reexamined its application of the countervailing duty AFA hierarchy and provided further explanation of why the 10.54 percent subsidy rate calculated for the preferential policy lending program in Coated Paper from China ⁴ was appropriate to use as AFA for the EBCP.⁵ However, on April 10, 2024, the CIT remanded Commerce's rate selection for a second time, ordering that Commerce reconsider its decision to use 10.54 percent subsidy rate from the preferential policy lending program to the coated paper industry in Coated Paper from China as the rate selected as AFA for the EBCP.⁶

⁴ See Certain Coated Paper Suitable for High-Quality Print Graphics Using Sheet Fed Presses from the People's Republic of China: Amended Final Affirmative Countervailing Duty Determination and Countervailing Duty Order, 75 FR 59212 (September 27, 2010) (Coated Paper from China), and accompanying Issues and Decision Memorandum (IDM) at 12.

⁵ See Final Results of Redetermination Pursuant to Court Remand, Yama Ribbons and Bows Co., v. United States, Court No. 20-00059, Slip Op. 22-157 (CIT December 23, 2022), dated February 14, 2023, available at https://access.trade.gov/public/FinalRemandRedetermination.aspx.

⁶ See Yama Ribbons and Bows Co. v. United States, Court No. 20-00059, Slip. Op. 24-43 (CIT April 10, 2024).

In its second final remand redetermination issued in June 2024,⁷ Commerce reconsidered using the 10.54 percent rate from the preferential lending program in Coated Paper from China as AFA for the EBCP, and instead, used the 0.87 percent subsidy rate calculated for the Export Seller's Credit program in Chloro Isos from China.⁸ Accordingly, Commerce calculated a revised subsidy rate for Yama of 22.20 percent. On August 5, 2024, the CIT sustained Commerce's final redetermination.⁹

⁷ See Final Results of Redetermination Pursuant to Court Remand, Yama Ribbons and Bows Co., v. United States, Court No. 20-00059, Slip Op. 24-43 (CIT April 10, 2024), dated June 10, 2024, available at https://access.trade.gov/public/FinalRemandRedetermination.aspx.

⁸ See Countervailing Duty Investigation of Chlorinated Isocyanurates from the People's Republic of China: Preliminary Determination and Alignment of Final Determination With Final Antidumping Determination, 79 FR 10097 (February 24, 2014), and accompanying Preliminary Decision Memorandum at 15, unchanged in Chlorinated Isocyanurates from the People's Republic of China: Final Affirmative Countervailing Duty Determination; 2012, 79 FR 56560 (September 22, 2014) (Chloro Isos from China), and accompanying IDM at 14.

⁹ See Yama Ribbons and Bows Co. v. United States, Court No. 20-00059, Slip Op. 24-89, dated August 5, 2024.

Timken Notice

In its decision in Timken,¹⁰ as clarified by Diamond Sawblades,¹¹ the U.S. Court of Appeals for the Federal Circuit held that, pursuant to section 516A(c) and (e) of the Act, Commerce must publish a notice of court decision that is not “in harmony” with a Commerce determination and must suspend liquidation of entries pending a “conclusive” court decision. The CIT's August 5, 2024, judgment constitutes a final decision of the CIT that is not in harmony with Commerce's Final Results. Thus, this notice is published in fulfillment of the publication requirements of Timken.

¹⁰ See Timken Co. v. United States, 893 F.2d 337 (Fed. Cir. 1990) (Timken).

¹¹ See Diamond Sawblades Manufacturers Coalition v. United States, 626 F.3d 1374 (Fed. Cir. 2010) (Diamond Sawblades).

Amended Final Results

Because there is now a final court judgment, Commerce is amending its Final Results with respect to Yama as follows:

Company | Subsidy rate (percent ad valorem)
Yama Ribbons and Bows Co., Ltd | 22.20

Cash Deposit Requirements

Because Yama has a superseding cash deposit rate, i.e., there have been final results published in a subsequent administrative review, we will not issue revised cash deposit instructions to U.S. Customs and Border Protection (CBP). This notice will not affect the current cash deposit rate for Yama.

Liquidation of Suspended Entries

At this time, Commerce remains enjoined by CIT order from liquidating entries that: were produced and/or exported by Yama that were the subject of Commerce's Final Results, and that were entered, or withdrawn from warehouse, for consumption, during the period January 1, 2017, through December 31, 2017. These entries will remain enjoined pursuant to the terms of the injunction during the pendency of any appeals process.

In the event the CIT's ruling is not appealed, or, if appealed, upheld by a final and conclusive court decision, Commerce intends to instruct CBP to assess countervailing duties on unliquidated entries of subject merchandise produced and/or exported by Yama in accordance with 19 CFR 351.212(b). We will instruct CBP to assess countervailing duties on all appropriate entries covered by this review when the ad valorem rate is not zero or de minimis. Where an ad valorem subsidy rate is zero or de minimis,¹² we will instruct CBP to liquidate the appropriate entries without regard to countervailing duties.

¹² See 19 CFR 351.106(c)(2).

Notification to Interested Parties

This notice is issued and published in accordance with sections 516A(c) and (e) and 777(i)(1) of the Act.

Dated: August 13, 2024.
Ryan Majerus,
Deputy Assistant Secretary for Policy and Negotiations, performing the non-exclusive functions and duties of the Assistant Secretary for Enforcement and Compliance.

[FR Doc. 2024-18589 Filed 8-19-24; 8:45 am]

BILLING CODE 3510-DS-P